DEPARTMENT OF COMMERCE

International Trade Administration

[C-533-853, C-523-802, C-520-806, C-552-810]

Circular Welded Carbon-Quality Steel Pipe From India, the Sultanate of Oman, the United Arab Emirates, and the Socialist Republic of Vietnam: Postponement of Preliminary Determinations in the Countervailing Duty Investigations

AGENCY: Import Administration, International Trade Administration, Department of Commerce.

DATES: Effective Date: December 19, 2011.

FOR FURTHER INFORMATION CONTACT: Joshua Morris, AD/CVD Operations, Import Administration, International Trade Administration, U.S. Department of Commerce, 14th Street and Constitution Avenue NW., Washington, DC 20230; telephone: (202) 482-1779.

Background

On November 15, 2011, the Department of Commerce (the “Department”) initiated countervailing duty investigations of circular welded carbon-quality steel pipe (“certain steel pipe”) from India, the Sultanate of Oman (“Oman”), The United Arab Emirates (“the UAE”), and the Socialist Republic of Vietnam (“Vietnam”). See Circular Welded Carbon-Quality Steel Pipe From India, the Sultanate of Oman, the United Arab Emirates, and the Socialist Republic of Vietnam: Initiation of Countervailing Duty Investigations, 76 FR 72173 (November 22, 2011). Currently, the preliminary determinations are due no later than January 19, 2012.

Postponement of Due Date for Preliminary Determinations

On December 6, 2011, the Department received a request from Wheatland Tube (one of the petitioners in these investigations) to postpone the preliminary determinations of the countervailing duty investigations of certain steel pipe from India, Oman, the UAE, and Vietnam. Under section 703(c)(1)(A) of the Tariff Act of 1930, as amended (“the Act”), the Department may extend the period for reaching a preliminary determination in a countervailing duty investigation until no later than the 130th day after the date on which the administering authority initiates an investigation if the petitioner makes a timely request. In accordance with 19 CFR 351.205(e), Wheatland Tube's request for postponement of the preliminary determinations was made 25 days or more before the scheduled date of the preliminary determinations. Thus, we are fully extending the due date for the preliminary determinations to no later than 130 days after the day on which the investigations were initiated (i.e., March 24, 2012). However, March 24, 2012, falls on a Saturday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary determinations is now no later than March 26, 2012.

This notice is issued and published pursuant to section 703(c)(2) of the Act and 19 CFR 351.205(e).

Dated: December 12, 2011.
Paul Piquado,
Assistant Secretary for Import Administration.

[FR Doc. 2011-32443 Filed 12-16-11; 8:45 am]

BILLING CODE 3510-DS-P